DEPARTMENT OF ENERGY

Federal Energy Regulatory Commission

[Project No. 2901-008; Project No. 2902-009 Virginia]

Nekoosa Packaging Corporation; Notice of Availability of Draft Environmental Assessment

January 31, 2001.

In accordance with the National Environmental Policy Act of 1969 and the Federal Energy Regulatory Commission's (Commission) regulations, 18 CFR part 380 (Order No. 486, 52 FR 47897), the Office of Energy Projects has reviewed the application for license for the Big Island Hydroelectric Project and the Holcomb Rock Hydroelectric Project, located on the James River in Bedford and Amherst Counties, Virginia, and has prepared a Draft Environmental Assessment (DEA) for the project. No federal lands or Indian reservations are occupied by project works or located within the project boundary.

The DEA contains the staff's analysis of the potential environmental impacts of the project and concludes that licensing the project, with appropriate environmental protective measures, would not constitute a major federal action that would significantly affect the quality of the human environment.

Copies of the DEA are available for review at the Commission's Public Reference Room, located at 888 First Street, NE., Washington, DC 20426, or by calling (202) 208-1371. The DEA may be viewed on the web at http://www.ferc.fed.us/online/rims.htm (call (202) 208-2222 for assistance).

Any comments should be filed within 30 days from the date of this notice and should be addressed to David P. Boergers, Secretary, Federal Energy Regulatory Commission, 888 First Street, NE., Washington, DC 20426. Please affix Project No. 2901-008 and Project No. 2902-009 to all comments. Comments and protests may be filed electronically via the internet in lieu of paper. See, 18 CFR 385.2001(a)(1)(iii) and the instructions on the Commission's web site at http://www.ferc.fed.us/efi/doorbell.htm.

For further information, contact James T. Griffin at (202) 219-2799 or Monte TerHaar at (202) 219-2768.

David P. Boergers,
Secretary.

[FR Doc. 01-3001 Filed 2-5-01; 8:45 am]

BILLING CODE 6717-01-M